DEPARTMENT OF COMMERCE

Office of Administration

[Docket No.: 141202999-4999-01]

Commerce Alternative Personnel System

AGENCY: Office of Administration, Office of Human Resources Management, Department of Commerce.

ACTION: Notice.

SUMMARY: This notice announces the expansion of employee coverage under the Commerce Alternative Personnel System, formerly the Department of Commerce Personnel Management Demonstration Project, published in the Federal Register on December 24, 1997. This coverage is extended to include employees located in the National Telecommunications and Information Administration (NTIA), employed under the First Responder Network Authority (FirstNet). FirstNet was created as an independent authority within the NTIA, Department of Commerce, to provide emergency responders with the first high-speed, nation-wide network dedicated to public safety.

This notice also serves to make changes to the plan to accommodate the expansion of and modification to the Commerce Alternative Personnel System. These changes include the addition of specific occupational series, Commerce Alternative Personnel System Board composition, and the implementation of direct-hire authority on a limited basis for certain FirstNet positions in the ZP career path at the Pay Band IV and above.

DATES: This notice expanding and modifying the Commerce Alternative Personnel System is effective January 2, 2015.

FOR FURTHER INFORMATION CONTACT: Department of Commerce—Sandra Thompson, U.S. Department of Commerce, 14th and Constitution Avenue NW., Room 51020, Washington, DC 20230, (202) 482-0056 or Valerie Smith at (202) 482-0272.

SUPPLEMENTARY INFORMATION:

1. Background

The Office of Personnel Management (OPM) approved the Department of Commerce (DoC) demonstration project for an alternative personnel management system, and published the final plan in the Federal Register on Wednesday, December 24, 1997 (62 FR 67434). The demonstration project was designed to simplify current classification systems for greater flexibility in classifying work and paying employees; establish a performance management and rewards system for improving individual and organizational performance; and improve recruiting and examining to attract highly-qualified candidates. The purpose of the project was to strengthen the contribution of human resources management and test whether the same innovations conducted under the National Institute of Standards and Technology alternative personnel management system would produce similarly successful results in other DoC environments. The project was implemented on March 29, 1998. The project plan has been modified seven times to clarify certain DoC Demonstration Project authorities, and to extend and expand the project: 64 FR 52810 (September 30, 1999); 68 FR 47948 (August 12, 2003); 68 FR 54505 (September 17, 2003); 70 FR 38732 (July 5, 2005); 71 FR 25615 (May 1, 2006); 71 FR 50950 (August 28, 2006); 74 FR 22728 (May 14, 2009). With the passage of the Consolidated Appropriations Act, 2008, Public Law 110-161, on December 26, 2007, the project was made permanent (extended indefinitely) and renamed the Commerce Alternative Personnel System (CAPS).

CAPS provides for modifications to be made as experience is gained, results are analyzed, and conclusions are reached on how the system is working. This notice announces that the DoC expands CAPS to include NTIA FirstNet, in all duty locations, as a participating organization; and implements FirstNet's use of direct-hire authority under 5 U.S.C. 3304(a)(3) to fill specific scientific and engineering positions announced through this register in the ZP career path. This notice also serves to announce that the DoC modifies CAPS to add the following occupational series: 0089—Emergency Management series; 0306—Government Information series; 1109—Grants Management series; and 0905—General Attorney series. The addition of the 0905—General Attorney series is for specific use by FirstNet only. Only Attorneys employed under the FirstNet organization will be covered under CAPS.

The DoC will follow the CAPS plan as published in the Federal Register on December 24, 1997, and subsequent modifications as listed in the Background Section of this notice.

Kevin E. Mahoney,
Director for Human Resources Management and Chief Human Capital Officer.

Table of Contents

I. Executive Summary

II. Basis for CAPS Expansion

III. Changes to the Project Plan

I. Executive Summary

CAPS is designed to (1) improve hiring and allow DoC to compete more effectively for high-quality candidates through direct hiring, selective use of higher entry salaries, and selective use of recruitment incentives; (2) motivate and retain staff through higher pay potential, pay-for-performance, more responsive personnel systems, and selective use of retention incentives; (3) strengthen the manager's role in personnel management through delegation of personnel authorities; and (4) increase the efficiency of personnel systems through the installation of a simpler and more flexible classification system based on pay banding through reduction of guidelines, steps, and paperwork in classification, hiring, and other personnel systems, and through automation.

The current participating organizations include 7 offices of the Chief Financial Officer/Assistant Secretary for Administration in the Office of the Secretary; the Bureau of Economic Analysis; the Institute for Telecommunications Sciences—National Telecommunications and Information Administration; and 11 units of the National Oceanic and Atmospheric Administration: Office of Oceanic and Atmospheric Research, National Marine Fisheries Service, the National Environmental Satellite, Data, and Information Service, National Weather Service—Space Environment Center, National Ocean Service, Program Planning and Integration Office, Office of the Under Secretary, Marine and Aviation Operations, Office of the Chief Administrative Officer, Office of the Chief Financial Officer, and the Workforce Management Office.

This amendment modifies the December 24, 1997, Federal Register notice. Specifically, it expands DoC CAPS to include NTIA, FirstNet as a participating organization and enables FirstNet to hire, after public notice is given, any qualified applicants in the ZP career path series as defined in the Basis for CAPS Expansion section without regard to 5 U.S.C. 3309-3318, 5 CFR part 211, or 5 CFR part 337, subpart A on a limited basis; it also adds additional occupational series as defined in the Background section.

II. Basis for CAPS Expansion

A. Purpose

CAPS is designed to provide managers at the lowest organizational level the authority, control, and flexibility to recruit, retain, develop, recognize, and motivate its workforce, while ensuring adequate accountability and oversight.

The expansion of coverage to include NTIA, FirstNet, along with the implementation of direct-hire authority, should improve FirstNet's ability to recruit and compete more effectively for high-quality personnel. Section 3304(a)(3) of Title 5, United States Code, provides agencies with the authority to appoint candidates directly to jobs for which the Office of Personnel Management (OPM) determines that there is a severe shortage of candidates or a critical hiring need.

OPM's direct-hire authority enables agencies to hire, after public notice is given, any qualified applicant without regard to 5 U.S.C. 3309-3318, 5 CFR part 211, or 5 CFR part 337, subpart A. This notice implements FirstNet's use of direct-hire authority to fill up to 21 positions in the ZP career path in the following series: 0850—Electrical Engineering; 0855—Electronics Engineering; 0854—Computer Engineering; or 1550—Computer Science; and up to 56 positions in the ZP—0089, Emergency Management series. The use of direct-hire authority to fill these positions will not exceed 77 positions in the ZP career path at any one time. NTIA, FirstNet will track the number of hires made under direct-hire authority, ensuring numbers specified for the occupational series are not exceeded.

In 1997, with the approval of the DoC's Demonstration Project (62 FR 67434), OPM concurred that some occupations in the ZP career path at the Pay Band III and above constitute a shortage category, and some occupations for which there is a special rate under the General Schedule pay system constitute a shortage category. Past recruitment efforts have demonstrated a critical shortage of candidates possessing specialized technical expertise in 4G Long Term Evaluation (LTE) technologies and mobile systems, as well as expertise in public safety organizational operations and infrastructure capabilities. FirstNet will use direct-hire authority to recruit Electronics Engineers, Electrical Engineers, Computer Engineers, and Computer Scientists in the ZP career path, Pay Band IV or higher, with efforts focused on recruiting individuals with technical expertise in 4G LTE technologies and development of mobile systems. This expertise is critical in order to test, evaluate, deploy, and operate a nation-wide public safety broadband network.

DoC FirstNet will use direct-hire authority to fill 0089—Emergency Management Specialist (Public Safety) positions in the ZP career path, Pay Band IV or higher, with efforts focused on formulation, development, and engagement of public safety officials in planning and implementing the nation-wide public safety broadband network. FirstNet will implement direct-hire authority to hire individuals with public safety experience in preventing, protecting, responding, or mitigating emergency events. It is imperative for the success of public safety to foster cooperation among various State, local, and tribal public safety officials to ensure requirements are captured for the development of the public safety network. To achieve FirstNet's statutory requirements and program goals, it is critical to recruit and retain individuals with public safety sector knowledge and experience in order to provide technical advice on preparedness and response activities associated with natural and/or man-made disasters and the organizational and infrastructure challenges faced responding to and recovering from emergency incidents.

DoC's CAPS allows for modifications of procedures if no new waiver from law or regulation is added. Given that this expansion and modification is in accordance with existing law and regulation and CAPS is a permanent alternative personnel system, the DoC is authorized to make the changes described in this notice.

B. Participating Employees

Employee notification of this expansion will be accomplished by providing a full set of briefings to employees and managers and providing them electronic access to all CAPS policies and procedures, including the seven previous Federal Register Notices. Employees will also be provided a copy of this Federal Register notice upon approval. Subsequent supervisor training and informational briefings for all employees will be accomplished prior to the implementation date of the expansion.

III. Changes to the Project Plan

The CAPS at DoC, published in the Federal Register on December 24, 1997 (62 FR 67434), is amended as follows:

1. The following organization will be added to the project plan, Section II D—Participating Organizations:

National Telecommunications and Information Administration (NTIA), First Responder Network Authority (FirstNet)

2. The following series are added to Table 2:

Administrative (ZA) Career Path

0306, Government Information Series

1109, Grants Management Series

0905, General Attorney Series (Authorized use by FirstNet only)

Scientific and Engineering (ZP) Career Path

0089, Emergency Management Series

3. Section III Personnel System Changes, (B) Staffing: Add a new subsection titled: “Direct-Hire Authority: Critical Shortage Occupations” and the information under this subsection is as follows: DoC FirstNet uses direct-hire procedures for categories of occupations that require skills that are in short supply. The following occupations constitute a shortage category, at the Pay Band IV and above in the ZP Career Path: Electronics Engineers, Electrical Engineers, Computer Engineers, Computer Scientists, and Emergency Management Specialists (Public Safety). Any positions in these categories may be filled by FirstNet through direct-hire procedures in accordance with 5 U.S.C. 3304(a)(3). DoC FirstNet advertises the availability of job opportunities in direct-hire occupations by posting on the OPM USAJOBS Web site. DoC FirstNet will follow internal direct-hire procedures for accepting applications.

4. A new subsection titled: “Referral Procedures for Direct-Hire” is added and the information under this subsection is as follows: After public notice is given, a qualified candidate may be referred without regard to 5 U.S.C. 3309-3318, 5 CFR part 211, or 5 CFR part 337, subpart A.

5. Section VII Project Management: The Commerce Alternative Personnel System Board will expand to include additional board members representing the major operating units included in CAPS.

[FR Doc. 2014-30754 Filed 12-31-14; 8:45 am]

BILLING CODE 3510-EA-P